EXPORT-IMPORT BANK OF THE UNITED STATES

[Public Notice 42]

Agency Information Collection Activities: Submission for OMB Review; Comment Request

AGENCY: Export-Import Bank of the United States.

ACTION: Submission for OMB Review; Comment request.

SUMMARY: In accordance with requirements of the Paperwork Reduction Act of 1995, the Export-Import Bank of the United States (Ex-Im Bank) has submitted to the office of Management and Budget (OMB) a request to review and approve a revision of a currently approved collection described below. A request for public comments was published in 65 FR No. 167, 40660, June 30, 2000. No comments were received.

SUPPLEMENTARY INFORMATION: This notice is soliciting comments from members of the public concerning the proposed collection of information to: (1) Evaluate whether the proposed collection is necessary for the paper performance of the functions of the agency, including whether the information will have practical utility; (2) evaluate the accuracy of the agency's estimate of the burden of the proposed collection of information; (3) enhance the quality, utility, and clarity of the information to be collected; and (4) minimize the burden of collection of information on those who are to respond: including through the use of appropriate automated collection techniques or other forms of information technology, e.g., permitting electronic submission of responses.

Dates: Comments due on or before September 27, 2000.

OMB Number: 3048-0003.

Title and Form Number: U.S. Small Business Administration, Export-Import Bank of the United States, Joint Application for Working Capital Guarantee, EIB-SBA 84-1.

Type of Review: Revision of a currently approved collection.

Need and Use: The information requested enables the applicant to provide Ex-Im Bank with information necessary to determine eligibility for the Working Capital Guarantee Program.

Affected Public: Business and other for-profit/not-for-profit institutions, Farms.

Respondents: Entities involved in the export of U.S. goods and services, including exporters, banks, and other non-financial lending institutions that act as facilitators.

Estimated annual respondents: 600.

Estimated time per respondent: 2 hours.

Estimated annual burden: 1,200 hours.

Frequency of response: When applying for a guarantee.

Copies of these submissions may be obtained from Carlista D. Robinson, Export-Import Bank of the United States, 811 Vermont Avenue, NW., Washington, DC 20571, (202) 565-3351. Comments and recommendations concerning the submissions should be sent to Mr. David Rostker, Office of Management and Budget, Office of Information and Regulatory Affairs, NEOB—Room 10202, Washington, DC 20503.

Solomon Bush,
Alternate Liaison Officer.

[FR Doc. 00-22632 Filed 8-31-00; 8:45 am]

BILLING CODE 6690-01-M